ENVIRONMENTAL PROTECTION AGENCY

[FRL-7383-3]

Agency Information Collection Activities: Request for Comments on Fourteen Proposed Information Collection Requests (ICRs)

AGENCY: Environmental Protection Agency (EPA).

ACTION: Notice.

SUMMARY: In compliance with the Paperwork Reduction Act (44 U.S.C. 3501 et seq.), this document announces that EPA (the Agency) is planning to submit the fourteen continuing Information Collection Requests (ICRs) listed in Section A of this notice to the Office of Management and Budget (OMB). Before submitting the ICRs to OMB for review and approval, EPA is soliciting comments on specific aspects of the information collections as described at the beginning of the SUPPLEMENTARY INFORMATION provided in this notice.

DATES: Comments must be submitted on or before November 26, 2002.

ADDRESSES: Compliance Assessment and Media Programs Division, Office of Compliance, Office of Enforcement and Compliance Assurance, Mail Code 2223A, United States Environmental Protection Agency, 1200 Pennsylvania Avenue, NW., Washington, DC 20460. A hard copy of a specific ICR may be obtained without charge by calling the identified information contact person listed in Section B under Supplementary Information.

FOR FURTHER INFORMATION CONTACT: For specific information on an individual ICR, contact the person listed in Section B under Supplementary Information.

SUPPLEMENTARY INFORMATION:

For All ICRs

An Agency may not conduct or sponsor, and a person is not required to respond to, a collection information unless it displays a currently valid OMB control number. The OMB control numbers for EPA's regulations are displayed in 40 CFR part 9.

The EPA would like to solicit comments to:

(i) Evaluate whether the proposed collection of information is necessary for the proper performance of the functions of the Agency, including whether the information will have practical utility;

(ii) Evaluate the accuracy of the Agency's estimate of the burden of the proposed collection of information;

(iii) Enhance the quality, utility, and clarity of the information to be collected; and

(iv) Minimize the burden of the collection of information on those who respond through the use of automated, electronic, mechanical, or other forms of information technology.

Burden means the total time, effort, or financial resources expended by persons to generate, maintain, retain, or disclose or provide information to or for a Federal Agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

In the absence of the information collection requirements in each applicable standard, enforcement personnel would be unable to determine whether the standards are being met on a continuous basis, as required by the Clean Air Act. Consequently, these information collection requirements are mandatory, and the records required by New Source Performance Standards (NSPS) must be retained by the owner or operator for at least two years; records required by the National Emission Standards for Hazardous Air Pollutants (NESHAP) must be retained by the owner or operator for at least five years; and the records required by the NESHAP Maximum Achievable Control Technology standards (NESHAP-MACT) must be retained by the owner or operator for at least five years. In general, the required information consists of emissions data and other information deemed not to be private. However, any information submitted to the Agency for which a claim of confidentiality is made will be safeguarded according to the Agency policies set forth in Title 40, Chapter 1, Part 2, Subpart B—Confidentiality of Business Information (See 40 CFR part 2; 41 FR 36902, September 1, 1976; amended by 43 FR 39999, September 8, 1978; 43 FR 42251, September 28, 1978; 44 FR 17674, March 2, 1979).

The Agency computed the burden for each of the recordkeeping and reporting requirements applicable to the industry for the currently approved ICRs. Where applicable, the Agency identified specific tasks and made assumptions, while being consistent with the concept of the Paper Work Reduction Act.

Section A: List of ICRs to be Submitted for OMB Review and Approval

In compliance with the Paperwork Reduction Act (44 U.S.C. 3501 et seq.), this notice announces that EPA is planning to submit the following fourteen continuing ICRs to the Office of Management and Budget (OMB).

(1) NESHAP Subpart E: NESHAP for Mercury (40 CFR part 61, subpart E); EPA ICR Number 0113.08, OMB Control Number 2060-0097; expiration date June 30, 2003.

(2) NSPS Subpart KK: NSPS for Lead Acid Battery Manufacturing (40 CFR part 60, subpart KK); EPA ICR Number 1072.07; OMB Control Number 2060-0081; expiration date June 30, 2003.

(3) NSPS Subpart L: NSPS for Secondary Lead Smelters (40 CFR part 60, subpart L); EPA ICR Number 1128.07; OMB Control Number 2060-0080; expiration date June 30, 2003.

(4) NSPS Subparts T, U, V, W and X: NSPS for the Phosphate Fertilizer Industry (Subparts T, U, V, W, X); EPA ICR Number 1061.09; OMB Control Number 2060-0037; expiration date June 30, 2003.

(5) NSPS Subparts AA and AAa: NSPS for Steel Plants—Electric Arc Furnaces and Argon Oxygen Decarbonization Vessels (40 CFR part 60, subparts AA and AAa); EPA ICR Number 1060.11; OMB Control Number 2060-0038; expiration date June 30, 2003.

(6) NSPS Subpart OOO: NSPS for Nonmetallic Mineral Processing (40 CFR part 60, subpart OOO); EPA ICR Number 1084.07; OMB Control Number 2060-0050; expiration date June 30, 2003.

(7) NSPS Subpart FFF: NSPS for Flexible Vinyl and Urethane Coating and Printing (40 CFR part 60, subpart FFF), EPA ICR 1157.07, OMB Control Number 2060-0073, expiration date June 30, 2003.

(8) NSPS Subpart TTT: NSPS for the Surface Coating of Plastic Parts for Business Machines (40 CFR part 60, subpart TTT); EPA ICR Number 1093.07; OMB Control Number 2060-0162; expiration date July 31, 2003.

(9) NESHAP-MACT Subpart RRR: NESHAP-MACT for Secondary Aluminum Production (40 CFR part 63, subpart RRR); EPA ICR Number 1894.03; OMB Control Number 2060-0433; expiration date July 31, 2003.

(10) NSPS Subpart PPP and NESHAP-MACT Subpart NNN: NSPS for Wool Fiberglass Insulation Manufacturing Plants (40 CFR part 60, subpart PPP), and NESHAP-MACT for Wool Fiberglass Manufacturing Plants (40 CFR part 63, subpart NNN); EPA ICR Number 1160.07; OMB Control Number 2060-0114; expiration date July 31, 2003.

(11) NESHAP-MACT Subpart II: NESHAP for Shipbuilding and Ship Repair Facilities—Surface Coating (40 CFR part 63, subpart II); EPA ICR Number 1712.04; OMB Control Number 2060-0330; expiration date August 31, 2003.

(12) NESHAP-MACT Subpart KK: NESHAP for the Printing and Publishing Industry (40 CFR part 63, subpart KK); EPA ICR 1739.04; OMB Control Number 2060-0335; expiration date September 30, 2003.

(13) NESHAP-MACT Subpart M: NESHAP for Perchloroethylene Dry Cleaning Facilities (40 CFR part 63, subpart M); OMB Control Number 2060-0234; EPA ICR Number 1415.05; expiration date September 30, 2003.

(14) NSPS Subpart MM: NSPS for Automobile and Light Duty Truck Surface Coating Operations (40 CFR part 60, subpart MM); EPA ICR Number 1064.10; OMB Control Number 2060-0034; expiration date September 30, 2003.

Section B: Contact Person for Individual ICRs

(1) NESHAP Subpart E: NESHAP for Mercury (40 CFR part 61, subpart E); María Malavé of the Office of Compliance at (202) 564-7027 or via e-mail at malave.maria@epa.gov; EPA ICR Number 0113.08, OMB Control Number 2060-0097; expiration date June 30, 2003.

(2) NSPS Subpart KK: NSPS for Lead Acid Battery Manufacturing (40 CFR part 60, subpart KK); María Malavé of the Office of Compliance at (202) 564-7027 or via e-mail at malave.maria@epa.gov; EPA ICR Number 1072.07; OMB Control Number 2060-0081; expiration date June 30, 2003.

(3) NSPS Subpart L: NSPS for Secondary Lead Smelters (40 CFR part 60, subpart L); María Malavé of the Office of Compliance at (202) 564-7027 or via e-mail at malave.maria@epa.gov; EPA ICR Number 1128.07; OMB Control Number 2060-0080; expiration date June 30, 2003.

(4) NSPS Subparts T, U, V, W and X: Standards of Performance for New Stationary Sources for Phosphate Fertilizer Industry (Subparts T, U, V, W, X); Stephen Howie of the Office of Compliance at (202) 564-4146 or e-mail at howie.stephen@epa.gov; EPA ICR Number 1061.09; OMB Control Number 2060-0037; expiration date June 30, 2003.

(5) NSPS Subparts AA and AAa: NSPS for Steel Plants—Electric Arc Furnaces and Argon Oxygen Decarbonization Vessels (40 CFR part 60, subparts AA and AAa); María Malavé of the Office of Compliance at (202) 564-7027 or via e-mail at malave.maria@epa.gov; EPA ICR Number 1060.11; OMB Control Number 2060-0038; expiration date June 30, 2003.

(6) NSPS Subpart OOO: NSPS for Nonmetallic Mineral Processing(40 CFR part 60, subpart OOO); Gregory Fried of the Office of Compliance at(202) 564-7016 or via e-mail at fried.gregory@epa.gov; EPA ICR Number 1084.07; OMB Control Number 2060-0050; expiration date June 30, 2003.

(7) NSPS Subpart FFF: NSPS for the Flexible Vinyl and Urethane Coating and Printing Industry (40 CFR part 60, subpart FFF); Sharie Centilla of the Office of Compliance at (202) 564-0697 or via e-mail at centilla.sharie@epa.gov; EPA ICR Number 1157.06; OMB Control Number 2060-0073; expiration date June 30, 2003.

(8) NSPS Subpart TTT: NSPS for the Surface Coating of Plastic Parts for Business Machines (40 CFR part 60, subpart TTT); Steven Hoover of the Office of Compliance at (202) 564-7007 or via e-mail at hoover.steven@epa.gov; EPA ICR Number 1093.07; OMB Control Number 2060-0162; expiration date July 31, 2003.

(9) NESHAP-MACT Subpart RRR: NESHAP-MACT for Secondary Aluminum Production (40 CFR part 63, subpart RRR); EPA ICR Number 1894.03; OMB Control Number 2060-0433; expiration date July 31, 2003; María Malavé of the Office of Compliance at (202) 564-7027 or via e-mail at malave.maria@epa.gov; EPA ICR Number 1894.03; OMB Control Number 2060-0433; expiration date July 31, 2003.

(10) NSPS Subpart PPP and NESHAP-MACT Subpart NNN: NSPS for Wool Fiberglass Insulation Manufacturing Plants (40 CFR part 60, subpart PPP) and NESHAP-MACT for Wool Fiberglass Manufacturing Plants (40 CFR Part 63, Subpart NNN); Gregory Fried of the Office of Compliance at (202) 564-7016 or via e-mail at fried.gregory@epa.gov; EPA ICR Number 1160.07; OMB Control Number 2060-0114; expiration date July 31, 2003.

(11) NESHAP-MACT Subpart II: NESHAP for Shipbuilding and Ship Repair Facilities—Surface Coating (40 CFR part 63, subpart II); Steven Hoover of the Office of Compliance at (202) 564-7007 or via e-mail at hoover.steven@epa.gov; EPA ICR Number 1712.04; OMB Control Number 2060-0330; expiration date August 31, 2003.

(12) NESHAP-MACT Subpart KK: NESHAP for the Printing and Publishing Industry (40 CFR part 63, subpart KK); Sharie Centilla of the Office of Compliance at (202) 564-0697 or via e-mail at centilla.sharie@epa.gov; EPA ICR 1739.04; OMB Control Number 2060-0335; expiration date September 30, 2003.

(13) NESHAP-MACT Subpart M: NESHAP for Perchloroethylene Dry Cleaning Facilities (40 CFR part 63, subpart M); Joyce Chandler of the Office of Compliance at (202) 564-7073 or via e-mail at chandler.joyce@epa.gov; OMB Control Number 2060-0234; EPA ICR Number 1415.05; expiration date September 30, 2003.

(14) NSPS Subpart MM: NSPS for Automobile and Light Duty Truck Surface Coating Operations (40 CFR part 60, subpart MM); Steven Hoover of the Office of Compliance at (202) 564-7007 or via e-mail at hoover.steven@epa.gov; EPA ICR Number 1064.10; OMB Control Number 2060-0034; expiration date September 30, 2003.

Section C: Summaries of Individual ICRs

(1) NESHAP Subpart E: NESHAP for Mercury (40 CFR part 61, subpart E); EPA ICR Number 0113.08, OMB Control Number 2060-0097; expiration date June 30, 2003.

Affected Entities: Entities potentially affected by this action are stationary sources that process mercury ore to recover mercury, use mercury chlor-alkali cells to produce chlorine gas and alkali metal hydroxide, and incinerate or dry wastewater treatment plant sludge.

Abstract: 40 CFR part 61, subpart E, was proposed on December 7, 1971, promulgated on April 6, 1973, and amended on October 14, 1975, and March 19, 1987. This NESHAP requires initial notifications, performance tests, and periodic reports by affected entities. The monitoring, recordkeeping, and reporting requirements outlined in this standard are similar to those required for other NESHAP regulations. Affected sources must demonstrate compliance with the emission standards by monitoring their control devices and performing annual emission testing. Affected sources are also required to submit one-time notifications of startup; a one-time report on performance test results; an initial report specifying the intended methods of compliance including a plan-specific monitoring plan, if it applies; and a semiannual report that includes a summary of the monitoring results. Sources must maintain records of emission test results, sludge sampling data, leaks, spills, process/control device parameters, and occurrences where the monitoring system is malfunctioning or inoperative.

Burden Statement: In the previously approved ICR, the estimated number of respondents for this information collection was 142 with 24 responses per year. The annual industry reporting and recordkeeping burden for this collection of information was 26,504 hours. On the average, each respondent reported 0.16 times per year and 1,104 hours were spent preparing each response. There were no capital/startup costs or operation and maintenance costs associated with continuous emission monitoring in the previous ICR.

(2) NSPS Subpart KK: NSPS for Lead Acid Battery Manufacturing (40 CFR part 60, subpart KK); EPA ICR Number 1072.07; OMB Control Number 2060-0081; expiration date June 30, 2003.

Affected Entities: Entities potentially affected by this action are lead acid battery manufacturing plants with production capacity that is equal to or exceeds 6.5 tons of lead having one or more of the following operations: grid casting, paste mixing, three-process operation, lead-oxide manufacturing, lead reclamation, and other lead-emitting operations.

Abstract: 40 CFR part 60, subpart KK, was proposed on January 14, 1980, and promulgated on April 16, 1982. This NSPS requires initial notifications, performance tests, and periodic reports. In addition, owners or operators of the subject facilities must maintain records of the occurrence and duration of any startup, shutdown, or malfunction in the operation of an affected facility, or any period during which a monitoring system is inoperative. Specific monitoring requirements include information on the operation of the scrubber device and compliance with the particulate matter and opacity standards.

Burden Statement: In the previously approved ICR, the estimated number of respondents for this information collection was 82 with 82 responses per year. The annual industry reporting and recordkeeping burden for this collection of information was 123 hours. On the average, each respondent reported once per year, and 1.5 hours were spent preparing each response. There were no capital/startup costs associated with the continuous monitoring system (CMS) in the previous ICR. However, CMS are used to comply with the reporting and recordkeeping requirements of the standard. The annual operation and maintenance costs for CMS in the previous ICR were estimated to be $18,000. This is based on the assumption that 20 of the 82 existing sources have CMS for their scrubber systems at an annual cost of $900 per source.

(3) NSPS Subpart L: NSPS for Secondary Lead Smelters (40 CFR part 60, subpart L); EPA ICR Number 1128.07; OMB Control Number 2060-0080; expiration date June 30, 2003.

Affected Entities: Entities potentially affected by this action are any pot furnace of more than 250 kg charging capacity, blast (cupola) furnaces, and reverberatory furnaces in secondary lead smelters.

Abstract: 40 CFR part 60, subpart L, was proposed on June 11, 1973 and promulgated on March 8, 1974. This NSPS requires initial notifications, performance tests, and periodic reports. In addition, owners or operators are also required to maintain records of the occurrence and duration of any startup, shutdown, or malfunction in the operation of an affected facility, or any period during which a monitoring system is inoperative.

Burden Statement: In the previously approved ICR, the estimated number of respondents for this information collection was 23 with 23 responses per year. The annual industry reporting and recordkeeping burden for this collection of information was 35 hours. On the average, each respondent reported once per year and 1.5 hours were spent preparing each response. There were no capital/startup costs or operation and maintenance costs associated with the continuous emission monitoring in the previous ICR.

(4) NSPS Subparts T, U, V, W and X: Standards of Performance for New Stationary Sources for Phosphate Fertilizer Industry (40 CFR part 60, subparts T, U, V, W, X); EPA ICR Number 1061.09; OMB Control Number 2060-0037; expiration date June 30, 2003.

Abstract: Under 40 CFR part 60, subparts T, U, V, W, X, owners/operators of phosphate fertilizer plants and phosphate bearing feed operations must notify the Agency of construction, modification, startups, shutdowns, malfunctions, and dates and results of the initial performance test. Owners/operators must also install, calibrate, and maintain monitoring devices to continuously measure and record the pressure drop across the scrubbers. Recordkeeping includes the occurrence and duration of all startups and malfunctions; initial performance tests results; amount of phosphate feed material; equivalent calculated amounts of phosphorus pentoxide; and pressure drops across scrubber systems. Startups, shutdowns and malfunctions must be recorded as they occur. Performance test records must contain information necessary to determine conditions of performance test and performance test measurements. Equivalent phosphorus pentoxide stored or amount of feed must be recorded daily. Continuous monitoring systems (CMSs) record the pressure drop across scrubbers continuously and automatically. Reporting includes initial notifications and performance test results.

Burden Statement: In the previously approved ICR, the estimated number of respondents for this information collection was 11 with 11 responses per year. The annual industry reporting and recordkeeping burden for this collection of information was 963 hours. On the average, each respondent reported once per year and 87.5 hours were spent preparing each response. There were no capital/startup costs or operation and maintenance costs associated with the continuous emission monitoring in the previous ICR.

(5) NSPS Subparts AA and AAa: NSPS for Steel Plants—Electric Arc Furnaces and Argon Oxygen Decarbonization Vessels (40 CFR part 60, subparts AA and AAa); EPA ICR Number 1060.11; OMB Control Number 2060-0038; expiration date June 30, 2003.

Affected Entities: Entities potentially affected by this action are electric arc furnaces, argon-oxygen decarburization (AOD) vessels, and dust handling systems at steel plants (minimills) that produce carbon, alloy, or specialty steels.

Abstract: 40 CFR part 60, subparts AA and AAa, were proposed on October 21, 1974 and promulgated on September 23, 1975 respectively. A review of Subpart AA in 1980 resulted in the promulgation of a new standard (Subpart AAa). Subpart AAa was proposed on August 17, 1983 and promulgated on October 31, 1984. On March 2, 1999, the Agency proposed a direct final rule to amend Subparts AA and AAa to add alternative requirements for monitoring in response to recommendations made by the Common Sense Initiative subcommittee on iron and steel. This NSPS requires initial notifications, performance tests, and periodic reports. In addition, owners or operators are also required to maintain records of the occurrence and duration of any startup, shutdown, or malfunction in the operation of an affected facility, or any period during which the monitoring system is inoperative.

Burden Statement: In the previously approved ICR, the estimated number of respondents for this information collection was 90 with 182 responses per year. The annual industry reporting and recordkeeping burden for this collection of information was 48,413 hours. On the average, each respondent reported twice per year and 266 hours were spent preparing each response.

The number of sources in the previous ICR is based on the number of the electric arc furnaces constructed prior to the 1974 Subpart AA cutoff date. It was also assumed that two additional sources became subject to the standard during the three-year ICR approval cycle. In the most previously approved ICR, there are continuous monitoring system (CMS) capital/startup costs associated with the two new affected facilities at a total cost of $27,600. It is assumed that new sources will not have to purchase continuous opacity monitors. Also, it is estimated that ten percent of the existing sources will have annual operation and maintenance costs associated with continuous opacity monitors at a cost of $66,750.

(6) NSPS Subpart OOO: NSPS for Nonmetallic Mineral Processing (40 CFR part 60, subpart OOO); EPA ICR Number 1084.07; OMB Control Number 2060-0050; expiration date June 30, 2003.

Affected Entities: This standard applies to owners or operators of new, modified, or reconstructed facilities at nonmetallic mineral processing plants that commenced construction, modification, or reconstruction after August 1, 1985. Nonmetallic mineral processing includes the following: each crusher, grinding mill, screening operation, bucket elevator, belt conveyor, bagging operation, storage bin, and enclosed truck or railcar loading station. This standard does not apply to facilities located in underground mines; stand-alone screening operations; operations that only involve recycled asphalt; fixed sand gravel, crushed stone plants with capacities of 25 tons per hour or less; portable sand, gravel, or crushed stone plants with capacities of 150 tons per hour or less; common clay or pumice plants with capacities of 10 tons per hour or less. In addition, when an existing facility is replaced by a piece of equipment of equal or smaller size, it is not subject to the standard until all facilities in a production line are replaced. Affected facilities in the plant process that are subject to 40 CFR part 60, subpart F, for Portland Cement NSPS, or Subpart I, Asphalt Concrete Plants NSPS, are not subject to this NSPS.

Abstract: Respondents subject to 40 CFR part 60, subpart OOO, must submit the following one-time-only reports: notification of the date of construction or reconstruction, notification of the actual date of initial startup, notification of any physical or operational change to an existing facility that may increase the regulated pollutant emission rate, notification of demonstration of the continuous monitoring system (CMS) where the CMS is required (e.g., wet scrubber), notification of the date of the initial performance test, and the results of the initial performance test. Wet mining/screening operations are exempt from all requirements of the regulation, except an initial report and record describing the location of these operations. The requirement to submit a notification of the anticipated date of initial startup is waived for respondents subject to this standard.

Respondents are also required to maintain records of the occurrence and duration of any startup, shutdown, or malfunction in the operation of an affected facility, or any period during which the CMS is inoperative. Owners or operators of facilities using a wet scrubber must record the measurements of both the change in pressure of the gas stream across the scrubber and the scrubbing liquid flow rate and submit semiannual reports for exceedances.

Burden Statement: In the previously approved ICR, the estimated number of respondents for this information collection was 4,305 with 2,320 responses per year. The annual industry reporting and recordkeeping burden for this collection of information was 31,746 hours. On the average, each respondent reported 0.5 times per year and 14 hours were spent preparing each response. There were no capital/startup costs or operation and maintenance costs associated with continuous emission monitoring in the previous ICR.

(7) NSPS Subpart FFF: NSPS for Flexible Vinyl and Urethane Coating and Printing (40 CFR part 60, subpart FFF); EPA ICR Number 1157.07; OMB Control Number 2060-0073; expiration date June 30, 2003.

Affected Entities: Entities potentially affected by this action are owners or operators of rotogravure printing lines used to print or coat flexible vinyl or urethane products, and for which construction, modification or reconstruction commenced after the date of proposal.

Abstract: 40 CFR part 60, subpart FFF, was proposed on January 18, 1983, and promulgated on June 29, 1984. This NSPS requires initial notifications, performance tests, and periodic reports. In addition, owners or operators are also required to maintain records of the occurrence and duration of any startup, shutdown, or malfunction in the operation of an affected facility, or any period during which the monitoring system is inoperative. Monitoring requirements specific to this standard provide information on the operation of emissions control devices. Semiannual reports of excess emissions or exceedances of standards are also required.

Burden Statement: In the previously approved ICR, the estimated number of respondents for this information collection was 10 with 21 responses per year. The annual industry reporting and recordkeeping burden for this collection of information was 329 hours. On the average, each respondent reported twice per year and 16 hours were spent preparing each response.

The annual reporting and recordkeeping cost burden for this ICR was estimated at $52,000 that includes $7,000 for capital/startup costs, and $45,000 for operation and maintenance costs.

(8) NSPS Subpart TTT: NSPS for the Surface Coating of Plastic Parts for Business Machines (40 CFR part 60, subpart TTT); EPA ICR Number 1093.07; OMB Control Number 2060-0162; expiration date July 31, 2003.

Affected Entities: Entities potentially affected by this action are facilities in industrial surface coating operations that apply coatings to plastic parts for use in the manufacture of business machines including each spray booth that applies prime coats, color coats, texture coats or touch-up coats.

Abstract: 40 CFR part 60, subpart TTT, was proposed on January 8, 1986 and promulgated on January 29, 1988. This NSPS requires initial notifications, performance tests, and periodic reports. In addition, owners or operators are also required to maintain records of the occurrence and duration of any startup, shutdown, or malfunction in the operation of an affected facility, or any period during which the monitoring system is inoperative. The required notifications are used to inform the Agency or delegated authority when a source becomes subject to the standard. Performance test reports are needed to demonstrate a source's initial capability to comply with the emission standard, and serve as a record of the operating conditions under which compliance was achieved. Quarterly and semiannual reports are used for problem identification, as a check on source operation, and maintenance and for compliance determinations.

Burden Statement: In the previously approved ICR, the estimated number of respondents for this information collection was 41 with 121 responses per year. The annual industry reporting and recordkeeping burden for this collection of information was 3,639 hours. On the average, each respondent reported three times per year and 30 hours were spent preparing each response. There were no capital/startup costs or operation and maintenance costs associated with continuous emission monitoring in the previous ICR. One additional new source per year is expected to become subject to the regulation in the next three years.

(9) NESHAP-MACT Subpart RRR: NESHAP-MACT for Secondary Aluminum Production (40 CFR part 63, subpart RRR); EPA ICR Number 1894.03; OMB Control Number 2060-0433; expiration date July 31, 2003.

Affected Entities: Entities potentially affected by this action are owners or operators of existing secondary aluminum production facilities. The standard applies to component processes at these facilities: aluminum scrap shredders, thermal chip dryers, scrap dryers/delacquering kilns/decoating kilns, secondary aluminum processing units composed of in-line fluxers and process furnaces (including both melting and holding furnaces of various configurations), sweat furnaces, dross-only furnaces, and rotary dross coolers.

Abstract: 40 CFR part 63, subpart RRR, was proposed on February 11, 1999 and promulgated on March 23, 2000. On September 14, 2000, the Agency proposed the removal of aluminum foundries and aluminum die casting facilities from the secondary aluminum production source category. On June 14, 2002, the Agency published amendments to the standards to clarify compliance dates and defer certain early compliance obligations.

The monitoring, recordkeeping, and reporting requirements outlined in the standard are similar to those required for other NESHAP regulations. Respondents must submit one-time notifications of applicability and reports on initial performance test results. Plants must develop and implement a startup, shutdown, and malfunction plan and submit semiannual reports of any event when the plan was not followed. Respondents must also develop and implement an operation, maintenance, and monitoring plan covering each affected source and each emission control device used for compliance with the standard. Semiannual reports for periods of operation during which the monitoring parameter ranges established during the initial compliance test are exceeded, or reports certifying that no exceedances have occurred also are required.

Burden Statement: In the previously approved ICR, the estimated number of respondents for this information collection was 887 with 2,315 responses per year. The annual industry reporting and recordkeeping burden for this collection of information was 148,031 hours. On the average, each respondent reported 2.6 times per year and 64 hours were spent preparing each response.

The total capital and startup costs annualized over its expected useful life are approximately $687,000. The total annualized capital/startup costs are approximately $535,000, and the total annualized operation and maintenance costs are approximately $152,000.

(10) NSPS Subpart PPP and NESHAP-MACT Subpart NNN: NSPS for Wool Fiberglass Insulation Manufacturing Plants (40 CFR part 60, subpart PPP), and NESHAP-MACT for Wool Fiberglass Manufacturing Plants (40 CFR part 63, subpart NNN); EPA ICR Number 1160.07; OMB Control Number 2060-0114; expiration date July 31, 2003.

Affected Entities: Entities potentially affected by the NSPS standard are each rotary spin wool fiberglass insulation manufacturing line located at a wool fiberglass insulation manufacturing plant. Entities potentially affected by the NESHAP-MACT standard are glass-melting furnaces, rotary spin manufacturing lines that produce bonded building insulation, and flame attenuation manufacturing lines producing bonded pipe insulation located at wool fiberglass manufacturing plants.

Abstract: 40 CFR part 60, subpart PPP, applies to each rotary spin wool fiberglass insulation manufacturing line for which construction, modification or reconstruction commenced after February 2, 1984.

This NSPS requires initial notifications, performance tests, and periodic reports. In addition, owners or operators are also required to maintain records of the occurrence and duration of any startup, shutdown, or malfunction in the operation of an affected facility, or any period during which the monitoring system is inoperative. Owners or operators must make the following one-time-only reports: notification of the date of construction or reconstruction; notification of the anticipated and actual dates of startup; notification of any physical or operational change to an existing facility that may increase the regulated pollutant emission rate; and the notification of the date of the initial performance test. Owners or operators are also required to maintain records of the occurrence and duration of any startup, shutdown, or malfunction in the operation of an affected facility.

Recordkeeping requirements specific to wool fiberglass insulation manufacturers include continuous measurements of control device operating parameters. When a wet scrubbing control device is used, the owner or operator of an affected facility must measure the gas pressure drop across each scrubber and the scrubbing liquid flow rate to each scrubber no less than once every four hours. Owners or operators who comply using a wet electrostatic precipitator control device must measure the primary and secondary current and voltage in each electrical field and the inlet water flow rate no less than once every four hours.

The reporting requirements for this industry include the initial notifications listed, the initial performance test results, and semiannual reports of excess emissions.

The NESHAP-MACT rule requires initial notifications, performance tests, and periodic reports. In addition, owners or operators are also required to maintain records of the occurrence and duration of any startup, shutdown, or malfunction in the operation of an affected facility, or any period during which the monitoring system is inoperative. 40 CFR 63.1386 of the final rule specifies additional records to be kept by owners or operators of wool fiberglass manufacturing plants including: (1) Bag leak detection system alarm activations; (2) electrostatic precipitator (ESP) parameter values; (3) air temperature measurements above the molten glass in an uncontrolled cold top electric furnace; (4) uncontrolled glass-melting furnace (that is not a cold top electric furnace) parameter values used to monitor furnace performance; (5) the loss-on-ignition and product density for each bonded product manufactured on a rotary spin (RS) or flame attenuation (FA) manufacturing line; (6) the free formaldehyde content of each resin shipment received and used in binder formulation, and the binder formulation of each batch; (7) process parameter levels for RS and FA manufacturing lines that use process modifications to comply with the emission standards; (8) scrubber pressure drop, scrubbing liquid flow rate, and any chemical additives; (9) incinerator operating temperatures and results of the periodic inspection of incinerator components; and (10) the glass pull rate, including any period when the pull rate exceeds the average pull rate established during the performance test by more than 20 percent.

Burden Statement: In the previously approved ICR, the estimated number of respondents for this information collection was 20 with 128 responses per year. The annual industry reporting and recordkeeping burden for this collection of information was 19,098 hours. On the average, each respondent reported 6.4 times per year and 149 hours were spent preparing each response.

The total capital and startup costs annualized over its expected useful life are approximately $689,000. The total annualized capital/startup costs are approximately $485,000, and the total annualized operation and maintenance costs are approximately $204,000. It is estimated that no additional sources will become subject to the standard over the next three years.

(11) NESHAP-MACT Subpart II: NESHAP for Shipbuilding and Ship Repair Facilities—Surface Coating (40 CFR Part 63, Subpart II); EPA ICR Number 1712.04; OMB Control Number 2060-0330; expiration date August 31, 2003.

Affected Entities: Entities potentially affected by this action are all new and existing shipbuilding and repair facilities that are major sources of hazardous air pollutants.

Abstract: 40 CFR part 63, subpart II, was proposed on December 6, 1994 and promulgated on December 15, 1995. Owners or operators of shipbuilding and ship repair facilities to which this regulation is applicable must choose one of the four compliance options described in the final rule or install and monitor a specific control system to control coating emissions and reduce Hazardous Air Pollutant (HAP) emissions to the compliance level. This NESHAP requires initial notifications, performance tests, and periodic reports. In addition, owners or operators are also required to maintain records of the occurrence and duration of any startup, shutdown, or malfunction in the operation of an affected facility, or any period during which the monitoring system is inoperative. Also, respondents are required to submit with the initial notification an implementation plan that describes the coating compliance procedures; recordkeeping procedures; and transfer, handling, and storage procedures that the source intends to use. Respondents choosing any of the four compliance options described in the final rule must record the following: the total volume of coating applied at the source to ships; the volume of each low-usage-exempt coating applied; the identities of the coatings used, the appropriate coating categories, and applicable volatile organic hazardous air pollutant limit; the content certifications for each batch of coating; a determination of whether containers meet the standards; and the results of any Method 24 or approved test conducted on individual containers of coating, as applied.

Burden Statement: In the previously approved ICR, the estimated number of respondents for this information collection was 45 with 45 responses per year. The annual industry reporting and recordkeeping burden for this collection of information was 22,149 hours. On the average, each respondent reported once per year and 492 hours were spent preparing each response. There were no capital/startup costs or operation and maintenance costs associated with continuous emission monitoring in the previous ICR. One additional new source per year is expected to become subject to the regulation over the next three years.

(12) NESHAP-MACT Subpart KK: NESHAP for the Printing and Publishing Industry (40 CFR part 63, subpart KK); EPA ICR 1739.04; OMB Control Number 2060-0335; expiration date September 30, 2003.

Affected Entities: Entities potentially affected by this action are owners or operators of publication rotogravure, product and packaging rotogravure, and wide-web flexographic printing presses at major sources, existing or commencing construction or reconstruction after the effective date of this Subpart.

Abstract: 40 CFR part 63, subpart KK, was proposed on March 14, 1995 (60 FR 13664) and promulgated on May 30, 1996 (61 FR 27131). This NESHAP requires initial notifications, performance tests, and periodic reports. In addition, owners or operators are also required to maintain records of the occurrence and duration of any startup, shutdown, or malfunction in the operation of an affected facility, or any period during which the monitoring system is inoperative. Monitoring requirements specific to this standard provide information on the operation of the emissions control device and compliance with the opacity limit.

Burden Statement: In the previously approved ICR, the estimated number of respondents for this information collection was 135 with 273 responses per year. The annual industry reporting and recordkeeping burden for this collection of information was 52,495 hours. On the average, each respondent reported twice per year and 192 hours were spent preparing each response.

The total capital and startup costs annualized over its expected useful life are approximately $403,000. The total annualized capital/startup costs are approximately $7,000, and the total annualized operation and maintenance costs are approximately $396,000. It is estimated that one source per year will become subject to the standard over the next three years.

(13) NESHAP-MACT Subpart M: NESHAP for Perchloroethylene Dry Cleaning Facilities (40 CFR part 63, subpart M); OMB Control Number 2060-0234; EPA ICR Number 1415.05; expiration date September 30, 2003.

Affected Entities: Entities potentially affected by this action are those owners or operators of dry cleaning facilities using perchloroethylene (PCE) as a solvent.

Abstract: Sources subject to 40 CFR part 63, subpart M must submit certain records and reports to enable the Agency to identify facilities that may not be in compliance with the standard. Monitoring is conducted on a weekly basis to ensure that the emission control devices are being properly operated and maintained on a continuous basis to reduce vented PCE emissions, and leak detection and repair are conducted on a weekly basis to reduce fugitive PCE emissions. The required records indicate whether the facilities are operating and maintaining equipment properly to control vented emissions, and whether transfer emissions and other fugitive emissions are being properly controlled. To minimize the burden, much of the information that the Agency requires is recorded and retained on-site at the facility. Such information is reviewed by enforcement personnel during inspections and does not need to be routinely reported to the Agency. Records that must be maintained include the solvent purchased each month, yearly PCE consumption, weekly or biweekly inspections, dates of repair or purchase orders, monitoring and initial report requirements. In addition, sources must report on facility status change to a major source and exceedances of the low solvent consumption exemption level.

Burden Statement: In the previously approved ICR, the estimated number of respondents for this information collection was 25,090 with 5,270 responses per year. The annual industry reporting and recordkeeping burden for this collection of information was 1,212,129 hours. On the average, each respondent reported 0.21 times per year and 230 hours were spent preparing each response.

The total capital and startup costs annualized over its expected useful life are approximately $47,000. The total annualized capital/startup costs are zero, and the total annualized operation and maintenance costs are approximately $47,000.

(14) NSPS Subpart MM: NSPS for Automobile and Light Duty Truck Surface Coating Operations (40 CFR part 60, subpart MM); EPA ICR Number 1064.10; OMB Control Number 2060-0034; expiration date September 30, 2003.

Affected Entities: Entities potentially affected by this action are the following automobile and light duty truck assembly plant lines: each prime coat operation, guide coat operation, and top coat operation commencing construction, modification or reconstruction after October 5, 1979.

Abstract: 40 CFR part 60, subpart MM, was proposed on October 5, 1979 and promulgated on December 24, 1980 (45 FR 85415). This NSPS requires initial notifications, performance tests, and periodic reports. In addition, owners or operators are also required to maintain records of the occurrence and duration of any startup, shutdown, or malfunction in the operation of an affected facility, or any period during which the monitoring system is inoperative.

The control of emissions from automobile and light duty truck coating operations requires not only the installation of properly designed equipment, but also the operation and maintenance of that equipment. The required notifications are used to inform the Agency or delegated authority when a source becomes subject to the standard. Performance test reports are needed as these are the Agency's records of a source's initial capability to comply with the emission standard, and serve as a record of the operating conditions under which compliance was achieved. When thermal or catalytic incineration is performed, the owner or operator shall keep records of each three-hour period during which the incinerator temperature averaged more than 28 degrees centigrade below the temperature of the most recent performance test, and when the average temperature difference across the catalyst bed is less than 80% of the average temperature difference recorded during the most recent performance test. The semiannual reports are used for problem identification, as a check on source operation and maintenance, and for compliance determinations.

Burden Statement: In the previously approved ICR, the estimated number of respondents for this information collection was 45 with 171 responses per year. The annual industry reporting and recordkeeping burden for this collection of information was 145,599 hours. On the average, each respondent reported 3.8 times per year and 851 hours were spent preparing each response.

The total capital and startup costs annualized are approximately $7,000, the total annualized capital/startup costs are $2,000 and the total annualized operation and maintenance costs are approximately $5,000.

Dated: September 17, 2002.
Michael M. Stahl,
Director, Office of Compliance.

[FR Doc. 02-24493 Filed 9-25-02; 8:45 am]

BILLING CODE 6560-50-P